DEPARTMENT OF JUSTICE

Bureau of Justice Assistance

Agency Information Collection Activities: New Proposed Collection; Comment Request

AGENCY: Bureau of Justice Assistance, Justice.

ACTION: Notice of information collection under review; New collection; survey of best practices for hiring and retention of female and minority law enforcement officers.

The Department of Justice, Bureau of Justice Assistance, has submitted the following information collection request to the Office of Management and Budget (OMB) for review and clearance in accordance with emergency review procedures of the Paperwork Reduction Act of 1995. OMB approval has been requested by March 3, 2000. The proposed information collection is published to obtain comments from the public and affected agencies. If granted, the emergency approval is only valid for 180 days. Comments should be directed to OMB, Office of Information Regulation Affairs, Attention: Department of Justice Desk Officer, Washington, DC 20530.

During the first 60 days of this same review period, a regular review of this information collection is also being undertaken. All comments and suggestions, or questions regarding additional information, to include obtaining a copy of the proposed information collection instrument with instructions, should be directed to Richard H. Ward, III, Deputy Director, Bureau of Justice Assistance, 810 7th Street, Washington DC 20531, or facsimile at (202) 305-1367.

Request written comments and suggestions from the public and affected agencies concerning the proposed collection of information. Your comments should address one or more of the following four points:

(1) Evaluate whether the proposed collection of information is necessary for the proper performance of the functions of the agency, including whether the information will have practical utility;

(2) Evaluate the accuracy of the agency's estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of This Information

(1) Type of Information Collection: New Collection.

(2) Title of the Form/Collection: Survey of Best Practices for Hiring and Retention of Female and Minority Law Enforcement Officers.

(3) Agency form number, if any, and the applicable component of the Department sponsoring the collection: None. Bureau of Justice Assistance, United States Department of Justice.

(4) Affected public who will be as or required to respond, as well as a brief abstract: Primary: Local Law Enforcement Agency Other: None. 42 USC 3760 [Sec. 510.] Purposes (a)(4) providing financial assistance to public agencies and private nonprofit organizations for demonstration programs which, in view of previous research or experience, are likely to be a success in more than one jurisdiction.

(5) An estimate of the total number of respondents and the amount of time estimated for an average respondent to respond/reply: The time burden of the 800 respondents to complete the survey is 35 minutes per application.

(6) An estimate of the total public burden (in hours) associated with the collection: The total annual hour burden to complete survey is approximately 400 hours.

If additional information is required contact: Ms. Brenda E. Dyer, Deputy Clearance Officer, United States Department of Justice, Information Management and Security Staff Justice Management Division, Suite 1220, National Place Building, 1331 Pennsylvania Avenue, NW, Washington, DC 20530.

Dated: February 22, 2000.
Brenda E. Dyer,
Department Deputy Clearance Officer, United States Department of Justice.

[FR Doc. 00-4610 Filed 2-25-00; 8:45 am]

BILLING CODE 4410-18-M